DEPARTMENT OF ENERGY

10 CFR Part 430

[EERE-2019-BT-TP-0021]

RIN 1904-AE75

Energy Conservation Program: Test Procedures for Consumer Products; Early Assessment Review; Faucets and Showerheads

AGENCY: Office of Energy Efficiency and Renewable Energy, Department of Energy.

ACTION: Request for information; extension of public comment period.

SUMMARY: The U.S. Department of Energy (“DOE”) is extending the public comment period for the early assessment request for information (“RFI”) regarding proposals to amend the test procedures for faucets and showerheads. DOE published the RFI in the Federal Register on September 2, 2021, establishing a 32-day public comment period ending October 4, 2021. On September 9, 2021, DOE received a comment requesting extension of the comment period to at least 30 days. DOE is extending the public comment period for submitting comments and data on the RFI document by an additional 15 days, to October 19, 2021, for a total of a 47 day comment period.

DATES: The comment period for the RFI published on September 2, 2021 (86 FR 49261), is extended. DOE will accept comments, data, and information regarding this RFI received no later than October 19, 2021.

ADDRESSES: Interested persons are encouraged to submit comments using the Federal eRulemaking Portal at www.regulations.gov. Follow the instructions for submitting comments. Alternatively, interested persons may submit comments by email to the following address: FaucetShowerhead2019TP0021@ee.doe.gov. Include “Energy Conservation Program: Test Procedures for Consumer Products; Early Assessment Review; Faucets and Showerheads” and docket number EERE-2019-BT-TP-0021 and/or RIN number 1904-AE75 in the subject line of the message. Submit electronic comments in WordPerfect, Microsoft Word, PDF, or ASCII file format, and avoid the use of special characters or any form of encryption.

Although DOE has routinely accepted public comment submissions through a variety of mechanisms, including postal mail and hand delivery/courier, the Department has found it necessary to make temporary modifications to the comment submission process in light of the ongoing corona virus (COVID-19) pandemic. DOE is currently accepting only electronic submissions at this time. If a commenter finds that this change poses an undue hardship, please contact Appliance Standards Program staff at (202) 586-1445 to discuss the need for alternative arrangements. Once the COVID-19 pandemic health emergency is resolved, DOE anticipates resuming all of its regular options for public comment submission, including postal mail and hand delivery/courier.

No telefacsimilies (faxes) will be accepted.

Docket: The docket for this activity, which includes Federal Register notices, comments, and other supporting documents/materials, is available for review at www.regulations.gov. All documents in the docket are listed in the www.regulations.gov index. However, some documents listed in the index, such as those containing information that is exempt from public disclosure, may not be publicly available.

The docket web page can be found at www.regulations.gov/docket?D=EERE-2019-BT-TP-0021. The docket web page contains instructions on how to access all documents, including public comments in the docket.

FOR FURTHER INFORMATION CONTACT:

Mr. Bryan Berringer, U.S. Department of Energy, Office of Energy Efficiency and Renewable Energy, Building Technologies Office, EE-5B, 1000 Independence Avenue SW, Washington, DC, 20585-0121. Telephone: (202) 586-0371. Email: ApplianceStandardsQuestions@ee.doe.gov.

Ms. Amelia Whiting, U.S. Department of Energy, Office of the General Counsel, GC-33, 1000 Independence Avenue SW, Washington, DC 20585-0121. Telephone: (202) 586-2588. Email: Amelia.Whiting@hq.doe.gov.

For further information on how to submit a comment or review other public comments and the docket contact the Appliance and Equipment Standards Program staff at (202) 287-1445 or by email: ApplianceStandardsQuestions@ee.doe.gov.

SUPPLEMENTARY INFORMATION: On September 2, 2021, DOE published a RFI in the Federal Register soliciting public comment on its test procedures for faucets and showerheads. 86 FR 49261. Comments were originally due on October 4, 2021. On September 9, 2021, DOE received a comment from Plumbing Manufacturers International (PMI) to extend at least 30 days the DOE comment period for the RFI for faucets and showerheads test procedure, extending the comment submission deadline from October 4, 2021 up to November 3, 2021.¹

¹ DOE has posted this comment to the docket at www.regulations.gov/document/EERE-2019-BT-TP-0021-0002.

DOE has reviewed the request and considered the benefit to stakeholders in providing additional time to review the RFI, and gather information/data that DOE is seeking. As noted, the RFI was issued as part of the preliminary stage of a rulemaking to consider amendments to the energy conservation standards for faucets and showerheads. If DOE determines that amended energy conservation standards may be appropriate, additional notices will be published (e.g., a notice of proposed rulemaking), providing interested parties additional opportunity to submit comments. Accordingly, DOE has determined that an extension of the comment period is appropriate, and is hereby extending the comment period by an additional 15 days, until October 19, 2020 for a total of a 47-day comment period.

Signing Authority

This document of the Department of Energy was signed on September 19, 2021, by Kelly Speakes Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 21, 2021.
Treena V. Garrett,
Federal Register Liaison Officer, U.S. Department of Energy.

[FR Doc. 2021-20756 Filed 9-23-21; 8:45 am]

BILLING CODE 6450-01-P